DEPARTMENT OF THE TREASURY

Proposed Collection; Comment Request; State Small Business Credit Initiative Allocation Agreement

AGENCY: Departmental Offices, Small Business Lending Funds, Treasury.

ACTION: Notice and request for comments.

SUMMARY: In accordance with the Paperwork Reduction Act of 1995, Public Law 104-13 (44 U.S.C. 3506(c)(2)(A)), this notice invites the general public and other public agencies to comment on a proposed information collection for which approval from the Office of Management and Budget (OMB) will be requested. The proposed collection would be an extension of a currently approved collection under OMB No. 1505-0227 which is due to expire June 30, 2011.

DATES: Written comments must be received on or before June 10, 2011 to be assured of consideration.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; (d) ways to minimize the burden of the collection of information on those who are to respond, including the use of appropriate automated, electronic, mechanical, or other technological collection techniques or other forms of information technology, and (e) estimates of capital or start-up costs and costs of operation, maintenance, and purchase of services to provide information

Comments may be sent to Dawn Wolfgang, Department of the Treasury, Departmental Offices, 1750 Pennsylvania Ave., NW., Suite 11010, Washington, DC 20220.

Responses to this notice will be summarized and included in the request for OMB approval and will also become a matter of public record.

FOR FURTHER INFORMATION CONTACT: Requests for additional information or copies of the information collection should be directed to Daniel Ballard, (202) 622-5142.

SUPPLEMENTARY INFORMATION: Title: State Small Business Credit Initiative Allocation Agreement.

OMB Number: 1505-0227.

Expiration Date: June 30, 2011.

Type of Request: Extension without change of a currently approved information collection.

Abstract: Under the Small Business Jobs Act of 2010 (the “Act”), the Department of the Treasury is responsible for implementing several components of the Act. Among these components is a program under title III of the Act which requires Treasury to make payments to participating States. Participating States will use the Federal funds for programs that leverage private lending to help finance small businesses and manufacturers that are creditworthy, but are not getting the loans they need to expand and create jobs. The collection of information is necessary to ensure that the allocation agreement constitutes a legal binding obligation of the participating State and to monitor participating State compliance and performance. The recordkeeping requirements ensure both the effective and efficient use of the funds consistent with the agreement.

Affected Public: State and Local Governments.

Estimated Number of Respondents: 56.

Estimated total annual responses: 112.

Hours per response: 11.

Total annual burden hours: 1,232.

Dawn D. Wolfgang,
Treasury PRA Clearance Officer.

[FR Doc. 2011-8560 Filed 4-8-11; 8:45 am]

BILLING CODE 4810-25-P